DEPARTMENT OF HEALTH AND HUMAN SERVICES

National Institutes of Health

National Cancer Institute; Amended Notice of Meeting

Notice is hereby given of a change in the meeting of the National Cancer Advisory Board, February 26, 2014, 06:00 p.m. to February 28, 2014, 12:00 p.m., National Institutes of Health, Building 31, 31 Center Drive, Bethesda, MD 20892 which was published in the Federal Register on January 22, 2014, 79 FR 3600.

The meeting notice is amended to cancel the third day (February 28, 2014) of the meeting. The meeting is partially closed to the public.

Dated: January 28, 2014.
Melanie J. Gray,
Program Analyst, Office of Federal Advisory Committee Policy.

[FR Doc. 2014-02101 Filed 1-31-14; 8:45 am]

BILLING CODE 4140-01-P